DEPARTMENT OF THE INTERIOR

Office of the Secretary

Trust Land Consolidation Draft Plan

AGENCY: Office of the Secretary, Interior.

ACTION: Notice of Availability.

SUMMARY: The Cobell Class Action Settlement Agreement established a trust land consolidation fund to be used for consolidating Indian trust and restricted lands and acquiring fractional interests in these lands. We are seeking comments on the draft plan for accomplishing these goals.

DATES: Submit comments by March 19, 2012.

ADDRESSES: Send comments on the draft plan to: Elizabeth Appel, Bureau of Indian Affairs, 1001 Indian School Road NW., Suite 312, Albuquerque, NM 87104; Email: elizabeth.appel@bia.gov. You can request copies of the draft plan by sending a letter or email to one of the above addresses or by calling 505-563-3805.

FOR FURTHER INFORMATION CONTACT: Meghan Conklin, Department of the Interior, 1849 C Street NW., Washington, DC 20240. Email: meghan_conklin@ios.doi.gov.

SUPPLEMENTARY INFORMATION:

In 1996, Eloise Cobell filed class action litigation seeking redress for the alleged mismanagement of land trust accounts for American Indians. The litigation eventually included hundreds of motions, seven full trials, and dozens of rulings and appeals. On December 8, 2009, the Department reached a negotiated settlement agreement to resolve the issues that gave rise to the litigation. The settlement agreement:

• Ended litigation regarding the federal government's performance of an historical accounting for trust accounts maintained by the United States on behalf of more than 300,000 individual Indians.

• Established a fund to be distributed to class members to compensate them for their historical accounting claims, and to resolve potential claims that prior U.S. officials mismanaged the administration of trust assets.

• Established a trust land consolidation fund for the voluntary buy-back and consolidation of fractionated land interests.

The draft plan we are making available for comment would implement the last of the above elements by carrying out a program of land consolidation within the 10-year deadline established in the agreement. The trust land consolidation fund is intended to remedy the proliferation of thousands of new trust accounts caused by the increasing subdivision or “fractionation” of land interests through succeeding generations. Fractionation is the result of the division among multiple heirs of increasingly smaller land interests. The land consolidation fund and the associated land consolidation program will provide individual American Indians an opportunity to obtain cash payments for fractionated land interests and will make consolidated lands available for use by tribal communities.

The goal of the draft land consolidation plan, developed as a result of consultation with Indian tribal representatives, is to reduce land fractionation as quickly and economically as possible. The draft plan would achieve sufficient capacity and efficiency for the implementation of the land consolidation program under the settlement agreement and includes a land consolidation process consisting of three elements:

• A targeted land fractionation program to focus on areas where land fractionation is greatest;

• A willing seller program to enable sales of fractionated interests from interested owners; and

• The availability of cooperative agreements to maximize tribal involvement in the consolidation process.

Copies of the complete draft plan are available at the address given in the ADDRESSES section of this notice.

Before including your address, phone number, email address, or other personal identifying information in your comment, you should be aware that your entire comment—including your personal identifying information—may be made publicly available at any time. While you can ask us in your comment to withhold your personal identifying information from public review, we cannot guarantee that we will be able to do so.

Dated: January 27, 2012.
David J. Hayes,
Deputy Secretary of the Interior.

[FR Doc. 2012-2400 Filed 2-2-12; 8:45 am]

BILLING CODE 4310-10-P